DEPARTMENT OF TRANSPORTATION

Surface Transportation Board

[STB Finance Docket No. 35346]

Nebraska Northwestern Railroad, Inc.—Acquisition and Operation Exemption—Dakota, Minnesota & Eastern Railroad Corporation

Nebraska Northwestern Railroad, Inc. (NNW), a noncarrier, has filed a verified notice of exemption under 49 CFR 1150.31 to acquire (by purchase and lease) from Dakota, Minnesota & Eastern Railroad Corporation (DM&E) and to operate approximately 28.1 miles of rail line as follows: (1) By purchase between milepost 404.5 near Chadron, NE., and milepost 411.72 Engineering Station 7492+73 near Dakota Junction, NE.; and (2) by lease between milepost 411.72 Engineering Station 7492+73 near Dakota Junction and milepost 432.6 near Crawford, NE., together with various side tracks, spur tracks, connections and other facilities located therein.

NNW states that the proposed transaction does not contain any provision or involve any agreement between it and DM&E that would limit NNW's future ability to interchange traffic with a third party connecting carrier.

NNW certifies that its projected annual revenues as a result of the transaction will not result in NNW becoming a Class II or Class I rail carrier and further certifies that its projected annual revenues will not exceed $5 million.

NNW states that it expects the transaction to be consummated as soon as practicable following the effective of this exemption. The earliest this transaction may be consummated is February 24, 2010, the effective date of the exemption (30 days after the exemption was filed).

If the verified notice contains false or misleading information, the exemption is void ab initio. Petitions to revoke the exemption under 49 U.S.C. 10502(d) may be filed at any time. The filing of a petition to revoke will not automatically stay the effectiveness of the exemption. Petitions for stay must be filed no later than February 17, 2010 (at least 7 days before the exemption becomes effective).

An original and 10 copies of all pleadings, referring to STB Finance Docket No. 35346, must be filed with the Surface Transportation Board, 395 E Street, SW., Washington, DC 20423-0001. In addition, a copy of each pleading must be served on Michael W. Blaszak, 211 South Leitch Avenue, La Grange, IL 60525.

Board decisions and notices are available on our Web site at http://www.stb.dot.gov.

Decided: February 4, 2010.
By the Board, Rachel D. Campbell, Director, Office of Proceedings.
Jeffrey Herzig,
Clearance Clerk.

[FR Doc. 2010-2875 Filed 2-9-10; 8:45 am]

BILLING CODE 4915-01-P